DEPARTMENT OF TRANSPORTATION

Federal Aviation Administration

Public Notice for Waiver of Aeronautical Land-Use Assurance

AGENCY: Federal Aviation Administration (FAA), DOT.

ACTION: Notice of intent of waiver with respect to land; Lewis University Airport, Romeoville, IL.

SUMMARY: The FAA is considering a proposal to change a portion of airport land from aeronautical use to non-aeronautical use and to authorize the sale of the airport property. The Will County Department of Highways has offered fair market value to purchase the land for the Weber Road improvement project. The parcel is not needed for aeronautical purposes and the proceeds from the sale of the land will be used for future airport improvement projects. This notice announces that the FAA is considering the release of the subject airport property at the Lewis University Airport, Romeoville, IL, from all federal land covenants. Approval does not constitute a commitment by the FAA to financially assist in disposal of the subject airport property nor a determination that all measures covered by the program are eligible for grant-in-aid funding from the FAA.

DATES: Comments must be received on or before March 15, 2013.

FOR FURTHER INFORMATION CONTACT: Gary D. Wilson, Program Manager, 2300 East Devon Avenue, Des Plaines, IL, 60018. Telephone Number 847-294-7631/FAX Number 847-294-7046. Documents reflecting this FAA action may be reviewed at this same location by appointment or at the Lewis University Airport, George Michas Drive, 1 Executive Terminal, Romeoville, Illinois 60446-1806.

SUPPLEMENTARY INFORMATION: In accordance with section 47107(h) of Title 49, United States Code, this notice is required to be published in the Federal Register 30 days before modifying the land-use assurance that requires the property to be used for an aeronautical purpose. The proposal consists of Parcel 12-1A-1, totaling 0.029 acres located on the west side of airport property. The parcel was purchased with Federal funds for land use compatibility and approach protection. Following is a legal description of the properties being released located in Will County, Illinois, and described as follows:

Parcel 12-1A-1

A part of the West Half of the Northwest Quarter of Section 17, Township 36 North, Range 10 East of the Third Principal Meridian, described as follows: the east 25.00 feet of the west 75.00 feet of the South 50.00 feet of the West Half of the Northwest Quarter of said Section 17, in Will County, Illinois.

Said Parcel containing 0.029 acres, more or less.

Issued in Des Plaines, Illinois on, February 5, 2013.
James G. Keefer,
Manager, Chicago Airports District Office, FAA, Great Lakes Region.

[FR Doc. 2013-03336 Filed 2-12-13; 8:45 am]

BILLING CODE 4910-13-P